DEPARTMENT OF THE INTERIOR

Geological Survey

[GX18RB00FXBA100; OMB Control Number 1028-NEW]

Agency Information Collection Activities; Forests, Wildfire Risk, and Watershed Health in the Rio Grande River Basin

AGENCY: U.S. Geological Survey, Interior.

ACTION: Notice of information collection; request for comment.

SUMMARY: In accordance with the Paperwork Reduction Act of 1995, we, the U.S. Geological Survey (USGS) are proposing a new information collection.

DATES: Interested persons are invited to submit comments on or before July 29, 2019.

ADDRESSES: Send your comments on the information collection request (ICR) by mail to the U.S. Geological Survey, Information Collections Clearance Officer, 12201 Sunrise Valley Drive, MS 159, Reston, VA 20192; or by email to gs-info_collections@usgs.gov. Please reference OMB Control Number 1028-NEW in the subject line of your comments.

FOR FURTHER INFORMATION CONTACT: To request additional information about this ICR, contact Rudy Schuster by email at schusterr@usgs.gov, or by telephone at (970) 226-9165.

SUPPLEMENTARY INFORMATION: In accordance with the Paperwork Reduction Act of 1995, we provide the general public and other Federal agencies with an opportunity to comment on proposed, revised, and continuing collections of information. This helps us assess the impact of our information collection requirements and minimize the public's reporting burden. It also helps the public understand our information collection requirements and provide the requested data in the desired format.

We are soliciting comments on the proposed ICR that is described below. We are especially interested in public comment addressing the following issues: (1) Is the collection necessary to the proper functions of the USGS; (2) will this information be processed and used in a timely manner; (3) is the estimate of burden accurate; (4) how might the USGS enhance the quality, utility, and clarity of the information to be collected; and (5) how might the USGS minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Abstract: The USGS is investigating public values for changes in forest restoration treatments within the upper Rio Grande watershed in New Mexico and Colorado. The Rio Grande watershed supplies water to half of New Mexico's population, including Albuquerque, Santa Fe, and many rural communities, but it also is threatened by the risk of high-severity wildfires. Forest restoration treatments can reduce the risks from high-severity wildfires, including threats to water security, private property, habitat for fish and wildlife, and air quality. USGS economists are partnering with an economic researcher with Northern Arizona University to review private citizens' attitudes, perceptions, and the economic values associated with the different potential benefits of these forest restoration treatments. These values will be estimated via a survey instrument. Previous studies in the study area have established the public benefit of conducting forest restoration treatments overall; the focus of this study is the relevant benefits of different impacts of these treatments. The primary goal of conducting this valuation study is to improve the ability of federal, state, local, and non-governmental organizations to maximize public benefits when planning and implementing these forest restoration treatments across the landscape.

The information collection process will be conducted by scientists and staff in the Social and Economic Analysis Branch of the USGS Fort Collins Science Center and partnering researchers in The W.A. Franke College of Business at Northern Arizona University. This information collection will be conducted through an online survey with an optional paper survey. Letters and postcards will be mailed to potential respondents to encourage participation in the survey. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked.

Title of Collection: Forests, wildfire risk, and watershed health in the Rio Grande river basin.

OMB Control Number: 1028-NEW.

Form Number: None.

Type of Review: New.

Respondents/Affected Public: individuals/households.

Total Estimated Number of Annual Respondents: 3,000.

Total Estimated Number of Annual Responses: 1,000.

Estimated Completion Time per Response: 20 minutes.

Total Estimated Number of Annual Burden Hours: 333 hours.

Respondent's Obligation: Voluntary.

Frequency of Collection: One time.

Total Estimated Annual Non-hour Burden Cost: None/not applicable.

An agency may not conduct or sponsor and a person is not required to respond to a collection of information unless it displays a currently valid OMB control number.

The authorities for this action are the Paperwork Reduction Act of 1995 (44 U.S.C. 3501, et seq.).

Sharon Taylor,
Fort Collins Science Center Director.

[FR Doc. 2019-10998 Filed 5-24-19; 8:45 am]

BILLING CODE 4338-11-P